DEPARTMENT OF DEFENSE

Department of the Army

[Docket ID: USA-2010-0015]

Privacy Act of 1974; System of Records

AGENCY: Department of the Army, DoD.

ACTION: Notice to amend a system of records.

SUMMARY: The Department of the Army is proposing to amend a system of records notice in its existing inventory of records systems subject to the Privacy Act of 1974, (5 U.S.C. 552a), as amended.

DATES: The changes will be effective on July 29, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army systems of records notices subject to the Privacy Act of 1974, (5 U.S.C. 552a), as amended, have been published in the Federal Register and are available from the Department of the Army, Privacy Office, U.S. Army Records Management and Declassification Agency, 7701 Telegraph Road, Casey Building, Suite 144, Alexandria, VA 22325-3905.

The specific changes to the records system being amended are set forth below followed by the notice, as amended, published in its entirety. The proposed amendments are not within the purview of subsection (r) of the Privacy Act of 1974, (5 U.S.C. 552a), as amended, which requires the submission of a new or altered system report.

Dated: June 24, 2010.
Mitchell S. Bryman,
Alternate OSD Federal Register Liaison Officer, Department of Defense.

A0095-1a TRADOC

SYSTEM NAME:

Centralized Aviation Flight Records System (CAFRS) (July 18, 2008; 73 FR 41338).

CHANGES:

* * * * *

SYSTEM LOCATION:

Delete entry and replace with “Network Enterprise Center, Sparkman Center, Building 5301, Redstone Arsenal, AL 35898-5000.”

* * * * *

AUTHORITY FOR MAINTENANCE OF THE SYSTEM:

Delete entry and replace with “10 U.S.C. 3013, Secretary of the Army; Army Regulation 95-1, Aviation Flight Regulations; Army Regulation 95-20, Contractor Flight and Ground Operations; Army Regulation 95-23, Aviation Unmanned Aircraft System Flight Regulations; Army Regulation 350-1, Army Training and Leader Development; Army Regulation 600-1-5, Personnel General Aviation Service of Rated Army Officers; Army Regulation 600-1-6, Personnel General Flying Status for Nonrated Army Aviation Personnel; and E.O. 9397 (SSN), as amended.”

* * * * *

ROUTINE USES OF RECORDS MAINTAINED IN THE SYSTEM, INCLUDING CATEGORIES OF USERS AND THE PURPOSES OF SUCH USES:

Add as last paragraph “NOTE: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

SYSTEM MANAGER(S) AND ADDRESS:

Delete entry and replace with “U.S. Army Program Executive Office (PEO) Aviation, ATTN: SFAE-AV-AS-ANMP, Sparkman Center, Building 5309, Redstone Arsenal, AL 35898-5000.”

NOTIFICATION PROCEDURE:

Delete entry and replace with “Individuals seeking to determine whether information about themselves is contained in this system should address written inquiries to the Flight Operations Section of their current unit, contractor facility or via the CAFRS Help Desk at cafrs.help@us.army.mil.

All written inquiries should contain the full name, Social Security Number (SSN), date of birth, military status and current mailing address and any details which may assist in locating record, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

RECORD ACCESS PROCEDURES:

Delete entry and replace with “Individuals seeking access to records about themselves contained in this record system should address written inquiries to the Flight Operations Section of their current unit, contractor facility or via the CAFRS Help Desk at cafrs.help@us.army.mil.

All written inquiries should contain the full name, Social Security Number (SSN), date of birth, military status and current mailing address and any details which may assist in locating record, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

* * * * *

A0095-1a TRADOC

SYSTEM NAME:

Centralized Aviation Flight Records System (CAFRS).

SYSTEM LOCATION:

Network Enterprise Center, Sparkman Center, Building 5301, Redstone Arsenal, AL 35898-5000.

CATEGORIES OF INDIVIDUALS COVERED BY THE SYSTEM:

Army aviators who are members of the Active and Reserve Components and qualified and current in the aircraft to be flown; civilian employees of Government agencies and Government contractors who have appropriate certifications or ratings, flight surgeons or aeromedical physicians' assistants in aviation service, enlisted crew chief/crew members, aerial observers, personnel in non-operational aviation positions, and those restricted or prohibited by statute from taking part in aerial flights. Designated personnel assigned to perform duties as an Unmanned Aerial System (UAS) crewmember.

CATEGORIES OF RECORDS IN THE SYSTEM:

DA Forms 759 and 759-1 (Individual Flight and Flight Certificate Army (Sections I, II, and III)); DA Form 4186 (Medical Recommendations for Flying Duty), DD Form 1821 (Contractor Crewmember Record); name, Social Security Number (SSN), home address, date of birth, military status, security clearance data, education, waivers, qualifications, disqualifications, re-qualifications, training, proficiency, and experience data, medical and physiological data, approvals to operate Government aircraft, requests for approval or contractor flight crewmember and contractor qualification training, and similar relevant documents.

AUTHORITY FOR MAINTENANCE OF THE SYSTEM:

10 U.S.C. 3013, Secretary of the Army; Army Regulation 95-1, Aviation Flight Regulations; Army Regulation 95-20, Contractor Flight and Ground Operations; Army Regulation 95-23, Aviation Unmanned Aircraft System Flight Regulations; Army Regulation 350-1, Army Training and Leader Development; Army Regulation 600-1-5, Personnel General Aviation Service of Rated Army Officers; Army Regulation 600-1-6, Personnel General Flying Status for Nonrated Army Aviation Personnel; and E.O. 9397 (SSN), as amended.

PURPOSE(S):

To record the flying experience, qualifications and training data of each aviator, crew member, UAS operator and flight surgeon in aviation service; and to monitor and manage individual contractor flight and ground personnel records.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

Information may be disclosed to the Federal Aviation Agency and/or the National Transportation Safety Board for the purpose of conducting a flight violation or accident investigation.

The DoD 'Blanket Routine Uses' set forth at the beginning of the Army's compilation of system of record notices apply to this record system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

POLICIES AND PRACTICES FOR STORING, RETRIEVING, ACCESSING, RETAINING, AND DISPOSING OF RECORDS IN THE SYSTEM:

STORAGE:

Paper records in file folders and notebooks and on electronic storage media.

RETRIEVABILITY:

By name, Social Security Number (SSN), or other personal identifier.

SAFEGUARDS:

Records are maintained in secure areas available only to designated persons having official need for the record. Automated systems employ computer hardware/software safeguard features and controls which meet administrative, physical, and technical safeguards.

RETENTION AND DISPOSAL:

PERMANENT. Keep in Current Files Area (CFA) until no longer needed for conducting business, then retire to Records Holding Area/Army Electronic Archives (RHA/AEA). The Transition Center will pull the most current DA Form 759, Individual Flight Record and Flight Certificate-Army from the Individual Flight Record Folder (IFRF) and forward it to the Official Military Personnel File (OMPF) Custodian for inclusion in the soldier's OMPF. The remainder of the IFRF will be given to the soldier upon separation processing at the Transition Center.

SYSTEM MANAGER(S) AND ADDRESS:

U.S. Army Program Executive Office (PEO) Aviation, ATTN: SFAE-AV-AS-ANMP, Sparkman Center, Building 5309, Redstone Arsenal, AL 35898-5000.

NOTIFICATION PROCEDURE:

Individuals seeking to determine whether information about themselves is contained in this system should address written inquiries to the Flight Operations Section of their current unit, contractor facility or via the CAFRS Help Desk at cafrs.help@us.army.mil.

All written inquiries should contain the full name, Social Security Number (SSN), date of birth, military status and current mailing address and any details which may assist in locating record, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

RECORD ACCESS PROCEDURES:

Individuals seeking access to records about themselves contained in this record system should address written inquiries to the Flight Operations Section of their current unit, contractor facility or via the CAFRS Help Desk at cafrs.help@us.army.mil.

All written inquiries should contain the full name, Social Security Number (SSN), date of birth, military status and current mailing address and any details which may assist in locating record, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

CONTESTING RECORD PROCEDURES:

The Army's rules for accessing records, contesting contents, and appealing initial determinations are contained in Army Regulation 340-21; 32 CFR part 505; or may be obtained from the system manager.

RECORD SOURCE CATEGORIES:

From the individual, Federal Aviation Administration, flight surgeons, evaluation reports, proficiency and readiness tests, and other relevant records and reports.

EXEMPTIONS CLAIMED FOR THE SYSTEM:

None.

[FR Doc. 2010-15718 Filed 6-28-10; 8:45 am]

BILLING CODE 5001-06-P